DEPARTMENT OF ENERGY

Federal Energy Regulatory Commission

Combined Notice of Filings #1

Take notice that the Commission received the following electric rate filings:

Docket Numbers: ER10-1933-007; ER10-2615-014; ER11-2335-016; ER18-920-007.

Applicants: Marco DM Holdings, L.L.C., Plum Point Energy Associates, LLC, Plum Point Services Company, LLC, RockGen Energy LLC.

Description: Triennial Market Power Analysis for Central Region of RockGen Energy, LLC, et al.

Filed Date: 6/30/21.

Accession Number: 20210630-5369.

Comments Due: 5 p.m. ET 8/30/21.

Docket Numbers: ER10-2405-010.

Applicants: High Prairie Wind Farm II, LLC.

Description: Triennial Market Power Analysis for Central Region and Notice of Non-Material Change in Status of High Prairie Wind Farm II, LLC.

Filed Date: 6/30/21.

Accession Number: 20210630-5362.

Comments Due: 5 p.m. ET 8/30/21.

Docket Numbers: ER10-2718-038; ER10-2719-039.

Applicants: Cogen Technologies Linden Venture, L.P., East Coast Power Linden Holding, L.L.C.

Description: Notice of Non-Material Change in Status of Cogen Technologies Linden Venture, L.P., et al.

Filed Date: 6/30/21.

Accession Number: 20210630-5368.

Comments Due: 5 p.m. ET 7/21/21.

Docket Numbers: ER11-46-016; ER11-47-013; ER12-1400-008; ER12-1540-011; ER12-1541-011; ER12-1542-011; ER12-1544-011; ER12-2343-011; ER13-1896-017; ER14-594-015; ER14-868-002; ER16-323-010; ER17-1930-005; ER17-1931-005; ER17-1932-005; ER21-136-002.

Applicants: AEP Energy Partners, Inc., Appalachian Power Company, Flat Ridge 2 Wind Energy LLC, Indiana Michigan Power Company, Kentucky Power Company, Kingsport Power Company, Wheeling Power Company, AEP Energy, Inc., AEP Generation Resources Inc., Ohio Power Company, AEP Retail Energy Partners, Ohio Valley Electric Corporation, Public Service Company of Oklahoma, AEP Texas Inc., Southwestern Electric Power Company, Flat Ridge 3 Wind Energy, LLC.

Description: Triennial Market Power Analysis for Southwest Power Pool, Inc. Region of AEP Energy Partners, Inc., et al.

Filed Date: 6/30/21.

Accession Number: 20210630-5365.

Comments Due: 5 p.m. ET 8/30/21.

Docket Numbers: ER16-1990-003; ER20-1996-002; ER21-1187-001; ER21-1188-001; ER21-1217-001; ER21-1218-001; ER21-1370-002.

Applicants: Assembly Solar I, LLC, Assembly Solar II, LLC, Dressor Plains Solar, LLC, Iris Solar, LLC, North Star Solar PV LLC, Prairie State Solar, LLC, St. James Solar, LLC.

Description: Triennial Market Power Analysis for Central Region of North Star Solar PV LLC, et al.

Filed Date: 6/30/21.

Accession Number: 20210630-5359.

Comments Due: 5 p.m. ET 8/30/21.

Docket Numbers: ER19-2434-001; ER19-2534-001.

Applicants: Citizens Energy Corporation, Citizens Imperial Solar LLC.

Description: Notice of Non-Material Change in Status of Citizens Imperial Solar LLC, et al.

Filed Date: 6/30/21.

Accession Number: 20210630-5367.

Comments Due: 5 p.m. ET 7/21/21.

Docket Numbers: ER20-67-002; ER20-113-002; ER20-116-002.

Applicants: Evergy Metro, Inc., Evergy Missouri West, Inc., Evergy Kansas Central, Inc.

Description: Triennial Market Power Analysis for Southwest Power Pool, Inc. Region of Evergy Kansas Central, Inc., et al.

Filed Date: 6/30/21.

Accession Number: 20210630-5363.

Comments Due: 5 p.m. ET 8/30/21.

Docket Numbers: ER20-681-003.

Applicants: Tri-State Generation and Transmission Association, Inc.

Description: Triennial Market Power Analysis for Southwest Power Pool, Inc. Region of Tri-State Generation and Transmission Association, Inc.

Filed Date: 6/30/21.

Accession Number: 20210630-5360.

Comments Due: 5 p.m. ET 8/30/21.

Docket Numbers: ER20-2429-001.

Applicants: Central Maine Power Company, ISO New England Inc.

Description: Compliance filing: Central Maine Power; Order No. 864 Comp.—Response to Staff Deficiency Letter to be effective 1/1/2018.

Filed Date: 7/6/21.

Accession Number: 20210706-5057.

Comments Due: 5 p.m. ET 7/27/21.

Docket Numbers: ER20-2446-004.

Applicants: Bitter Ridge Wind Farm, LLC.

Description: Compliance filing: Compliance filing for Docket ER20-2446 to be effective 9/29/2020.

Filed Date: 7/6/21.

Accession Number: 20210706-5058.

Comments Due: 5 p.m. ET 7/27/21.

Docket Numbers: ER20-2503-003.

Applicants: Paulding Wind Farm IV LLC.

Description: Compliance filing: Compliance filing for Docket No. ER20-2503 to be effective 9/22/2020.

Filed Date: 7/6/21.

Accession Number: 20210706-5061.

Comments Due: 5 p.m. ET 7/27/21.

Docket Numbers: ER20-2953-003.

Applicants: Lone Tree Wind, LLC.

Description: Compliance filing: Compliance filing for Docket ER20-2953 to be effective 12/16/2020.

Filed Date: 7/6/21.

Accession Number: 20210706-5063.

Comments Due: 5 p.m. ET 7/27/21.

Docket Numbers: ER21-2349-000.

Applicants: AR Searcy Project Company, LLC.

Description: Baseline eTariff Filing: MBR Initial Application to be effective 9/1/2021.

Filed Date: 7/2/21.

Accession Number: 20210702-5095.

Comments Due: 5 p.m. ET 7/23/21.

Docket Numbers: ER21-2350-000.

Applicants: MS Sunflower Project Company, LLC.

Description: Baseline eTariff Filing: MBR Initial Application to be effective 9/1/2021.

Filed Date: 7/2/21.

Accession Number: 20210702-5096.

Comments Due: 5 p.m. ET 7/23/21.

Docket Numbers: ER21-2351-000.

Applicants: Entergy Services, LLC.

Description: § 205(d) Rate Filing: Entergy Services, LLC to be effective 9/1/2021.

Filed Date: 7/2/21.

Accession Number: 20210702-5099.

Comments Due: 5 p.m. ET 7/23/21.

Docket Numbers: ER21-2352-000.

Applicants: Pacific Gas and Electric Company.

Description: § 205(d) Rate Filing: Amendment to PG&E Elkhorn Energy Storage LGIA (SA 379) to be effective 7/3/2021.

Filed Date: 7/2/21.

Accession Number: 20210702-5102.

Comments Due: 5 p.m. ET 7/23/21.

Docket Numbers: ER21-2353-000.

Applicants: Duke Energy Progress, LLC.

Description: Tariff Cancellation: DEP-Waynesville RS No. 185 Cancellation to be effective 9/1/2021.

Filed Date: 7/2/21.

Accession Number: 20210702-5105.

Comments Due: 5 p.m. ET 7/23/21.

Docket Numbers: ER21-2354-000.

Applicants: Entergy Services, LLC.

Description: Request for Limited Waivers and Clarification of Affiliate Rules of Entergy Services, LLC.

Filed Date: 7/2/21.

Accession Number: 20210702-5168.

Comments Due: 5 p.m. ET 7/23/21.

Docket Numbers: ER21-2355-000.

Applicants: PJM Interconnection, L.L.C.

Description: § 205(d) Rate Filing: Original ISA, Service Agreement No. 6100; Queue No. AD2-076 to be effective 6/10/2021.

Filed Date: 7/6/21.

Accession Number: 20210706-5014.

Comments Due: 5 p.m. ET 7/27/21.

Docket Numbers: ER21-2356-000.

Applicants: Alabama Power Company.

Description: § 205(d) Rate Filing: Sandhills 2 Solar LGIA Filing to be effective 6/21/2021.

Filed Date: 7/6/21.

Accession Number: 20210706-5047.

Comments Due: 5 p.m. ET 7/27/21.

Docket Numbers: ER21-2357-000.

Applicants: Midcontinent Independent System Operator, Inc.

Description: § 205(d) Rate Filing: 2021-07-06_SA 3006 Duke-Jordan Creek 3rd Rev GIA (J515) to be effective 6/18/2021.

Filed Date: 7/6/21.

Accession Number: 20210706-5078.

Comments Due: 5 p.m. ET 7/27/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 6, 2021.
Debbie-Anne A. Reese,
Deputy Secretary.

[FR Doc. 2021-14760 Filed 7-9-21; 8:45 am]

BILLING CODE 6717-01-P